DEPARTMENT OF VETERANS AFFAIRS

[OMB Control No. 2900-0764]

Agency Information Collection Activity Under OMB Review: Survey of Healthcare Experiences of Patients (SHEP)—Dental Care Patient Satisfaction Survey

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0764.”

FOR FURTHER INFORMATION CONTACT: Maribel Aponte, Office of Enterprise and Integration, Data Governance Analytics (008), 1717 H Street NW, Washington, DC 20006, (202) 266-4688 or email maribel.aponte@va.gov. Please refer to “OMB Control No. 2900-0764” in any correspondence.

SUPPLEMENTARY INFORMATION:

Authority: 44 U.S.C. 3501-3521.

Title: Survey of Healthcare Experiences of Patients (SHEP)—Dental Care Patient Satisfaction Survey, VA Form 10-10070.

OMB Control Number: 2900-0764.

Type of Review: Reinstatement of a previously approved collection.

Abstract: The mission of the Veterans Health Administration (VHA) is to provide high quality medical and dental care to eligible veterans. Executive Order 12862, dated September 11, 1993, calls for the establishment and implementation of customer service standards, and for agencies to “survey customers to determine the kind and quality of services they want and their level of satisfaction with current services.”

The overall purpose of the Dental Care Patient Satisfaction Survey is to systematically obtain information from patients, which can be used to identify problems or complaints that need attention and to improve the quality of dental health care services. Information obtained from this dental survey will be made readily available to VA Central Office (VACO), Veterans Integrated Service Network (VISN), VHA field staff, and stakeholders as part of the Network Performance Report and via the VA Intranet. This data will be used to demonstrate that VA is providing timely, high quality health care services to patients.

An agency may not conduct or sponsor, and a person is not required to respond to a collection of information unless it displays a currently valid OMB control number. The Federal Register Notice with a 60-day comment period soliciting comments on this collection of information was published at 86 FR 169 on September 3, 2021, pages 49599 and 49600.

Affected Public: Individuals or Households.

Estimated Annual Burden: 12,600 hours.

Estimated Average Burden per Respondent: 15 minutes.

Frequency of Response: Once annually.

Estimated Number of Respondents: 50,400.

By direction of the Secretary.
Maribel Aponte,
VA PRA Clearance Officer, Office of Enterprise and Integration, Data Governance Analytics, Department of Veterans Affairs.

[FR Doc. 2021-24865 Filed 11-12-21; 8:45 am]

BILLING CODE 8320-01-P